DEPARTMENT OF COMMERCE

International Trade Administration

[A-570-504]

Petroleum Wax Candles From the People's Republic of China; Extension of Final Results of Expedited Sunset Review of Antidumping Duty Order

AGENCY: Import Administration, International Trade Administration, Department of Commerce.

SUMMARY: The Department of Commerce (“the Department”) is extending the time limit for its final results in the sunset review of the antidumping duty order on petroleum wax candles from the People's Republic of China. Based on adequate responses from the domestic interested parties and an inadequate response from respondent interested parties, the Department is conducting an expedited sunset review to determine whether revocation of the antidumping order would lead to the continuation or recurrence of dumping. As a result of this extension, the Department intends to issue final results of this expedited sunset review on or about December 10, 2004.

EFFECTIVE DATES: December 7, 2004.

FOR FURTHER INFORMATION CONTACT: Hilary E. Sadler, Esq., Import Administration, International Trade Administration, U.S. Department of Commerce, 14th Street & Constitution Avenue, NW., Washington, DC 20230; telephone: (202) 482-4340.

Extension of Final Results: In accordance with section 751(c)(5)(B), the Department may extend the period of time for making its determination by not more than 90 days, if it determines that the review is extraordinarily complicated. As set forth in 751(c)(5)(C)(v) of the Tariff Act of 1930, as amended (“the Act”), the Department may treat a sunset review as extraordinarily complicated if it is a review of a transition order, as is the case in this proceeding. Therefore, the Department has determined, pursuant to section 751(c)(5)(C)(v) of the Act, that the second sunset review of the antidumping duty order on petroleum wax candles from the People's Republic of China is extraordinarily complicated and requires additional time to complete its analysis. The Department's final results of review in this case were scheduled for November 30, 2004. The Department will extend the deadline in this proceeding and, as a result, intends to issue the final results on or about December 10, 2004 in accordance with section 751(c)(5)(B).

Dated: November 30, 2004.
James J. Jochum,
Assistant Secretary for Import Administration.

[FR Doc. E4-3479 Filed 12-6-04; 8:45 am]

BILLING CODE 3510-DS-P